DEPARTMENT OF VETERANS AFFAIRS

Special Medical Advisory Group, Notice of Meeting

The Department of Veterans Affairs (VA) gives notice under the Federal Advisory Committee Act, 5 U.S.C. App. 2, that the Special Medical Advisory Group will meet on May 1, 2013, in Room 830 at VA Central Office, 810 Vermont Avenue NW., Washington, DC, from 8:30 a.m. to 3 p.m. The meeting is open to the public.

The purpose of the Group is to advise the Secretary of Veterans Affairs and the Under Secretary for Health on the care and treatment of disabled Veterans, and other matters pertinent to the Department's Veterans Health Administration (VHA).

The agenda for the meeting will include discussions on VA and Department of Defense Collaboration; the Executive Order to Improve Access to Mental Health Services for Veterans, Service Members and Their Families; VA's Approach to End of Life Care; an Update on the National Academic Affiliations Council; and an annual ethics briefing for Committee members.

No time will be allocated for receiving oral presentations from the public. However, members of the public may submit written statements for review by the Committee to Jennifer Adams, Department of Veterans Affairs, Office of the Principal Deputy Under Secretary for Health (10A), Veterans Health Administration, 810 Vermont Avenue NW., Washington, DC 20420, or by email at Jennifer.adams@va.gov. Any member of the public wishing to attend the meeting or seeking additional information should contact Ms. Adams at (202) 461-6515 or by email.

Dated: April 12, 2013.
By Direction of the Secretary:
Vivian Drake,
Committee Management Officer.

[FR Doc. 2013-09072 Filed 4-17-13; 8:45 am]

BILLING CODE 8320-01-P